DEPARTMENT OF HOMELAND SECURITY

Coast Guard

33 CFR Part 165

[Docket No. USCG-2019-0215]

Safety Zone, Brandon Road Lock and Dam to Lake Michigan Including Des Plaines River, Chicago Sanitary and Ship Canal, Chicago River, and Calumet-Saganashkee Channel, Chicago, IL

AGENCY: Coast Guard, DHS.

ACTION: Notice of enforcement of regulation.

SUMMARY: The Coast Guard will enforce a segment of the Safety Zone: Brandon Road Lock and Dam to Lake Michigan including Des Plaines River, Chicago Sanitary and Ship Canal, Chicago River, and the Calumet-Saganashkee Channel. This action is necessary in order to protect vessels and persons from the potential hazards associated with construction involving wires being airlifted via helicopter across the river. During the enforcement period listed below, entry into, transiting, or anchoring within the safety zone is prohibited unless authorized by the Captain of the Port Lake Michigan or a designated representative.

DATES: The regulations in 33 Code of Federal Regulations (CFR) 165.930 will be enforced without actual notice from April 18, 2019 through April 21, 2019. For purposes of enforcement, actual notice will be used from April 15, 2019 through April 18, 2019. Construction involving airlifts will take place from 8 a.m. through 3 p.m. intermittently in fifteen-minute intervals.

FOR FURTHER INFORMATION CONTACT: If you have questions about this notice of enforcement, call or email LT John Ramos, Waterways Management Division, Marine Safety Unit Chicago, at 630-986-2155, email address D09-DG-MSUChicago-Waterways@uscg.mil.

SUPPLEMENTARY INFORMATION: The Coast Guard will enforce a segment of the Safety Zone: Brandon Road Lock and Dam to Lake Michigan including Des Plaines River, Chicago Sanitary and Ship Canal, Chicago River, Calumet-Saganashkee Channel, Chicago, IL, listed in 33 CFR 165.930. The safety zone will encompass all waters of the South Branch Chicago River east of the Ashland Avenue Bridge, north of the Adlai E. Stevenson Expressway Bridge and west of the South Halsted Street Bridge. Enforcement will occur from April 15, 2019 through April 21, 2019. Construction involving airlifts will take place from 8 a.m. to 3 p.m. intermittently in fifteen-minute intervals. During the enforcement period, no vessel may transit this regulated area without approval from the Captain of the Port, Lake Michigan or a Captain of the Port, Lake Michigan designated representative. Vessels and persons granted permission to enter the safety zone shall obey all lawful orders or directions of the Captain of the Port, Lake Michigan, or his or her on-scene representative.

This notice of enforcement is issued under the authority of 33 CFR 165.930 and 5 U.S.C. 552 (a). In addition to this publication in the Federal Register, the Captain of the Port Lake Michigan will also provide notice through other means, which will include Broadcast Notice to Mariners. Additionally, the Captain of the Port Lake Michigan may notify representatives from the maritime industry through telephonic notifications, email notifications, or by direct communication from on scene patrol commanders. If the Captain of the Port Lake Michigan or a designated representative determines that the regulated area does not need to be enforced for the full duration stated in this notice of enforcement, he or she may use a Broadcast Notice to Mariners to grant general permission to enter the regulated area. The Captain of the Port Lake Michigan or a designated on-scene representative may be contacted via Channel 16, VHF-FM or at (414) 747-7182.

Dated: April 15, 2019.
Thomas J. Stuhlreyer,
Captain, U.S. Coast Guard, Captain of the Port, Lake Michigan.

[FR Doc. 2019-07819 Filed 4-17-19; 8:45 am]

BILLING CODE 9110-04-P